DEPARTMENT OF HEALTH AND HUMAN SERVICES

Establishment of the Advisory Group on Prevention, Health Promotion, and Integrative and Public Health

AGENCY: Department of Health and Human Services, Office of the Secretary, Office of Public Health and Science.

ACTION: Notice.

AUTHORITY: Executive Order 13544, dated June 10, 2010, as statutorily mandated under Section 4001 of the Patient Protection and Affordable Care Act, Public Law 111-148, dated March 23, 2010. The Advisory Group on Prevention, Health Promotion, and Integrative and Public Health will be governed by provisions of the Federal Advisory Committee Act, Public Law 92-463, as amended (5 U.S.C. App.), which sets forth standards for the formation and use of advisory committees.

SUMMARY: The U.S. Department of Health and Human Services announces establishment of the Advisory Group on Prevention, Health Promotion, and Integrative and Public Health, as directed by Executive Order 13544.

FOR FURTHER INFORMATION CONTACT: Olga Nelson, Committee Management Officer, Office of Public Health and Science, Department of Health and Human Services, 200 Independence Avenue, SW., Room 714B, Washington, DC 20201, Telephone: (202) 690-5205; Fax: (202) 401-2222.

SUPPLEMENTARY INFORMATION: The President has issued Executive Order 13544, dated June 10, 2010, to comply with the statutes under Section 4001 of the Patient Protection and Affordable Care Act, Public Law 111-148. The legislation mandates that the President shall establish the Advisory Group on Prevention, Health Promotion, and Integrative and Public Health (the “Advisory Group”) within the Department of Health and Human Services. To comply with the statute, stipulations in the authorizing directive, and guidelines under the Federal Advisory Committee Act (FACA), a charter has been filed to establish the Advisory Group. The charter has been filed with the Committee Management Secretariat in the General Services Administration (GSA), the appropriate committees in the Senate and U.S. House of Representatives, and the Library of Congress to establish the Advisory Group as a non-discretionary Federal advisory committee. The charter was filed on June 24, 2010.

Objectives and Scope of Activities. The Advisory Group shall provide recommendations and advice to the National Prevention, Health Promotion, and Public Health Council (the “Council”). The Advisory Group shall provide assistance to the Council in carrying out its mission. The Advisory Group shall develop policy and program recommendations and advise the Council on lifestyle-based chronic disease prevention and management, integrative health care practices, and health promotion.

Membership and Designation. The Advisory Group shall be composed of not more than 25 non-Federal members to be appointed by the President. In appointing members, the President shall ensure that the Advisory Group includes a diverse group of licensed health professionals, including integrative health practitioners who have expertise in (1) worksite health promotion; (2) community services, including community health centers; (3) preventive medicine; (4) health coaching; (5) public health education; (6) geriatrics; and rehabilitation medicine.

The Advisory Group shall report to the Surgeon General. The Surgeon General shall select one of the appointed members to serve as Chair of the Advisory Group. The non-Federal members of the Advisory Group shall be classified as special Government employees (SGEs).

Administrative Management and Support. HHS will provide funding and administrative support for the Advisory Group to the extent permitted by law within existing appropriations. Staff will be assigned to a program office established to support the activities of the Advisory Group. Management and oversight for support services provided to the Advisory Group will be the responsibility of the Office of Public Health and Science, which is a staff division within the Office of the Secretary, HHS.

A copy of the charter for the Advisory Group can be obtained from the designated contacts or by accessing the FACA database that is maintained by the GSA Committee Management Secretariat. The Web site for the FACA database is http://fido.gov/facadatabase/.

Dated: June 25, 2010.
Regina Benjamin,
VADM, USPHS, Surgeon General.

[FR Doc. 2010-16049 Filed 6-30-10; 8:45 am]

BILLING CODE 4150-28-P